FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 15, 2013.

A. Federal Reserve Bank of Chicago (Colette A. Fried, Assistant Vice President) 230 South LaSalle Street, Chicago, Illinois 60690-1414:

1. Kevin J. Hendricks and Kendra Hendricks, both of Janesville, Wisconsin; as part of a family group including Diane M. Hendricks; to retain voting shares of Blackhawk Bancorp, Inc., and thereby indirectly retain voting shares of Blackhawk Bank, both in Beloit, Wisconsin.

B. Federal Reserve Bank of San Francisco (Kenneth Binning, Vice President, Applications and Enforcement) 101 Market Street, San Francisco, California 94105-1579:

1. The Thian Control Group, which includes Yee Phong Thian; Fen Fen Thian; Min Yaw Thian; Min Tat Thian; and Gim Tie Kheng, all of Arcadia, California; Fui Ming Thian, Lawrence S K Law, and Jor Leong Law all of Calabasas, California; Yee Chin Thian of Glendale, California; Jennifer Wei Lim Kheng of San Francisco, California; Jor Teck Law of Beijing, China; Min Yang Thian of Kuala Lumpur, Malaysia; Min Jie Thian of New York, New York; United Overseas Investment, Inc. and Eastern Union, Inc., both in Sherman Oaks, California; the Kao Control Group, which includes Ruey Chyr Kao, Je Tsu Kao, and James Kao, all of Las Vegas, Nevada; Min Hwan Kao and Yu Fan Kao, both of Leawood, Kansas; Daniel J. Kao and Linda Lee Kao, both of La Jolla, California; Christina Kao, Piscataway, New Jersey; the Chang Control Group, which includes Louis C. Chang and Su-Cheng C. Chang, both of Palos Verdes Estates, California; and Peter Ming Chang, Los Alamitos, California; to retain voting shares of RBB Bancorp, and thereby indirectly retain voting shares of Royal Business Bank, both in Los Angeles, California.

Board of Governors of the Federal Reserve System, January 28, 2013.
Margaret McCloskey Shanks,
Deputy Secretary of the Board.

[FR Doc. 2013-02111 Filed 1-31-13; 8:45 am]

BILLING CODE 6210-01-P